DEPARTMENT OF JUSTICE

Notice of Lodging of Proposed Consent Decree Under the Clean Air Act

On January 27, 2026, the Department of Justice lodged a proposed amendment to the Consent Decree entered on June 11, 2018 by the United States District Court for the Western District of Louisiana in the lawsuit entitled United States et al. v. Columbian Chemical Company, (W.D. La.), Civil Action No. 6:17-cv-01661.

The proposed Consent Decree amendment revises the Consent Decree's deadlines for the Defendant, Columbian Chemical Company (now known as Birla Carbon U.S.A., Inc.) to install and begin continuously operating certain air pollution control equipment at its carbon black manufacturing facilities in North Bend, Louisiana, and Hickok, Kansas. The proposed Consent Decree amendment also revises the Consent Decree's deadlines for the Defendant to achieve and continuously maintain certain limits on emissions of sulfur dioxide, nitrogen oxides, and particulate matter from its facilities.

The publication of this notice opens a period for public comment on the proposed Consent Decree amendment. Comments should be addressed to the Assistant Attorney General, Environment and Natural Resources Division, and should refer to United States et al. v. Colombian Chemical Company (W.D. La.), D.J. Ref. No. 90-5-2-1-10943. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree amendment may be examined and downloaded at this Justice Department website: http://www.usdoj.gov/enrd/consent-decrees. If you require assistance accessing the Consent Decree amendment, you may request assistance by email or by mail to the addresses provided above for submitting comments.

Thomas Carroll,
Assistant Section Chief, Environmental Enforcement Section, Environment and Natural Resources Division.

[FR Doc. 2026-01813 Filed 1-29-26; 8:45 am]

BILLING CODE 4410-15-P